DEPARTMENT OF AGRICULTURE

Forest Service

Measures for Allocating Uses for Outfitting and Guiding Activities on National Forest System Lands

AGENCY: Forest Service, USDA.

ACTION: Notice of issuance of interim directive.

SUMMARY: The Forest Service is issuing an interim directive (ID) to Forest Service Handbook 2709.11, Chapter 40, to enumerate measures, other than service days, that may be used to allocate use for outfitting and guiding activities on National Forest System lands. This ID is issued as number FSH 2709.11-2005-1.

DATES: This ID is effective August 24, 2005.

ADDRESSES: ID 2709.11-2005-1 is available electronically from the Forest Service via the World Wide Web at http://www.fs.fed.us/im/directives. A paper copy may be obtained by contacting Carolyn Holbrook, Recreation and Heritage Resources Staff, by mail at Mail Stop 1124, Forest Service, 1400 Independence Avenue, SW., Washington, DC 20250-1124; or by telephone at (202) 205-1399.

FOR FURTHER INFORMATION CONTACT: Carolyn Holbrook, Recreation and Heritage Resources Staff (202) 205-1399.

SUPPLEMENTARY INFORMATION: The Forest Service is issuing ID 2709.11-2005-1 to incorporate minor changes to the current direction in FSH 2709.11, section 41.53, regarding methods of measuring authorized use in a permit for outfitting and guiding on National Forest System lands. The ID adds definitions for: “allocation of use,” “quota,” and “service day” (sec. 41.53c); provides that quotas and other units of measure may be used in lieu of service days to allocate and authorize use (sec. 41.53h, para. 2b(1) and sec. 41.53j, para. 4); and adds transportation livestock as an item to be included and accounted for in the permit, operating plan, or annual itinerary (sec. 41.53j, para.4).

Dated: August 12, 2005.
Jack G. Troyer,
Acting Chief.

[FR Doc. 05-16767 Filed 8-23-05; 8:45 am]

BILLING CODE 3410-11-P